DEPARTMENT OF COMMERCE

International Trade Administration

[Application No. 84-26A12]

Export Trade Certificate of Review

ACTION: Notice of Application for an Amended Export Trade Certificate of Review by Northwest Fruit Exporters, Application No. 84-26A12.

SUMMARY: The Secretary of Commerce, through the International Trade Administration, Office of Trade and Economic Analysis (OTEA), has received an application for an amended Export Trade Certificate of Review (“Certificate”) from Northwest Fruit Exporters. This notice summarizes the proposed amendment and seeks public comments on whether the amended Certificate should be issued.

FOR FURTHER INFORMATION CONTACT: Joseph E. Flynn, Director, Office of Trade and Economic Analysis, International Trade Administration, by telephone at (202) 482-5131 (this is not a toll-free number) or email at etca@trade.gov.

SUPPLEMENTARY INFORMATION: Title III of the Export Trading Company Act of 1982 (15 U.S.C. Sections 4001-21) authorizes the Secretary of Commerce to issue Export Trade Certificates of Review. The regulations implementing Title III are found at 15 CFR part 325 (2015). OTEA is issuing this notice pursuant to 15 CFR 325.6(a), which requires the Secretary of Commerce to publish a notice in the Federal Register identifying the applicant and summarizing the conduct for which certification is sought. Under 15 CFR 325.6(a), interested parties may, within twenty days after the date of this notice, submit written comments to the Secretary on the application.

Request for Public Comments: Interested parties may submit written comments relevant to the determination whether an amended Certificate should be issued. If the comments include any privileged or confidential business information, it must be clearly marked and a nonconfidential version of the comments (identified as such) should be included. Any comments not marked as privileged or confidential business information will be deemed to be nonconfidential.

An original and five (5) copies, plus two (2) copies of the nonconfidential version, should be submitted no later than 20 days after the date of this notice to: Export Trading Company Affairs, International Trade Administration, U.S. Department of Commerce, Room 21028, Washington, DC 20230.

Information submitted by any person is exempt from disclosure under the Freedom of Information Act (5 U.S.C. 552). However, nonconfidential versions of the comments will be made available to the applicant if necessary for determining whether or not to issue the amended Certificate. Comments should refer to this application as “Export Trade Certificate of Review, application number 84-26A12.”

Description of Amendments to the Certificate

1. Under the heading Products, add “fresh pears.”

2. Under the heading Export Trade Activities and Methods of Operation, add “fresh pears” to the subtitles of sections 1 and 3.

3. Add coverage for Export Trade Activities and Methods of Operation relating to “fresh pears” for the following existing Members of the Certificate (within the meaning of section 325.2(l) of the regulations (15 CFR 325.2(l)):

Apple House Warehouse & Storage, Inc.

Blue Bird, Inc.

Blue Star Growers, Inc.

Borton & Sons, Inc.

Chelan Fruit Cooperative

Congdon Packing Co. L.L.C.

Conrad & Adams Fruit L.L.C.

Crane & Crane, Inc.

Diamond Fruit Growers Inc.

Gold Digger Apples, Inc.

Hansen Fruit & Cold Storage Co., Inc.

Highland Fruit Growers, Inc.

HoneyBear Growers, LLC

Matson Fruit Company

McDougall & Sons, Inc.

Stadelman Fruit, L.L.C.

Stemilt Growers, LLC

Strand Apples, Inc.

The Dalles Fruit Company, LLC/Underwood Fruit & Warehouse Co.

Valley Fruit III L.L.C.

4. Add the following new Members of the Certificate (within the meaning of section 325.2(l) of the regulations (15 CFR 325.2(l)), for Export Trade Activities and Methods of Operation relating to “fresh pears”:

Duckwall Fruit

Naumes, Inc.

Peshastin Hi-Up Growers

5. Add the following new Members of the Certificate for Export Trade Activities and Methods of Operation relating to apples:

Piepel Premium Fruit Packing LLC

Ron LeFore, d/b/a Ron LeFore Apple Farms

Western Traders LLC

6. Remove the following companies as Members of the Certificate: Blue Mountain Growers, Inc. (Milton-Freewater, OR), and Obert Cold Storage (Zillah, WA); and

7. Change the name of the following existing Members: The Apple House, Inc. (Brewster, WA) is now Apple House Warehouse & Storage, Inc. (Brewster, WA); C&M Fruit Packers (Yakima, WA) is now Columbia Fruit Packers/Airport Division (Yakima, WA); Domex Marketing (Yakima, WA) is now Domex Superfresh Growers LLC (Yakima, WA); Stemilt Growers Inc. is now Stemilt Growers, LLC; and The Dalles Fruit Company, LLC is now The Dalles Fruit Company, LLC Underwood Fruit & Warehouse Co. (Dallesport, WA).

NWF's Export Trade Certificate of Review complete amended membership is listed below:

1. Allan Bros., Naches, WA

2. AltaFresh L.L.C. dba Chelan Fresh Marketing, Chelan, WA

3. Apple House Warehouse & Storage, Inc., Brewster, WA

4. Apple King, L.L.C., Yakima, WA

5. Auvil Fruit Co., Inc., Orondo, WA

6. Baker Produce, Inc., Kennewick, WA

7. Blue Bird, Inc., Peshastin, WA

8. Blue Star Growers, Inc., Cashmere, WA

9. Borton & Sons, Inc., Yakima, WA

10. Brewster Heights Packing & Orchards, LP, Brewster, WA

11. Broetje Orchards LLC, Prescott, WA

12. C.M. Holtzinger Fruit Co., Inc., Yakima, WA

13. Chelan Fruit Cooperative, Chelan, WA

14. Chiawana, Inc. dba Columbia Reach Pack, Yakima, WA

15. Columbia Fruit Packers, Inc., Wenatchee, WA

16. Columbia Fruit Packers/Airport Division, Yakima, WA

17. Columbia Marketing International Corp., Wenatchee, WA

18. Columbia Valley Fruit, L.L.C., Yakima, WA

19. Congdon Packing Co. L.L.C., Yakima, WA

20. Conrad & Adams Fruit L.L.C., Grandview, WA

21. Cowiche Growers, Inc., Cowiche, WA

22. CPC International Apple Company, Tieton, WA

23. Crane & Crane, Inc., Brewster, WA

24. Custom Apple Packers, Inc., Brewster, Quincy, and Wenatchee, WA

25. Diamond Fruit Growers, Odell, OR

26. Domex Superfresh Growers LLC, Yakima, WA

27. Douglas Fruit Company, Inc., Pasco, WA

28. Dovex Export Company, Wenatchee, WA

29. E. Brown & Sons, Inc., Milton-Freewater, OR

30. Evans Fruit Co., Inc., Yakima, WA

31. E.W. Brandt & Sons, Inc., Parker, WA

32. Frosty Packing Co., LLC, Yakima, WA

33. G&G Orchards, Inc., Yakima, WA

34. Garrett Ranches Packing, Wilder, ID

35. Gilbert Orchards, Inc., Yakima, WA

36. Gold Digger Apples, Inc., Oroville, WA

37. Hansen Fruit & Cold Storage Co., Inc., Yakima, WA

38. Henggeler Packing Co., Inc., Fruitland, ID

39. Highland Fruit Growers, Inc., Yakima, WA

40. HoneyBear Growers, Inc., (Brewster, WA)

41. Honey Bear Tree Fruit Co., LLC, Wenatchee, WA

42. Hood River Cherry Company, Hood River, OR

43. Ice Lakes LLC, E. Wenatchee, WA

44. JackAss Mt. Ranch, Pasco, WA

45. Jenks Bros Cold Storage Packing (Royal City, WA)

46. Kershaw Fruit & Cold Storage, Co., Yakima, WA

47. L&M Companies, Selah, WA

48. Larson Fruit Co., Selah, WA

49. Manson Growers Cooperative, Manson, WA

50. Matson Fruit Company, Selah, WA

51. McDougall & Sons, Inc., Wenatchee, WA

52. Monson Fruit Co.—Apple operations only, Selah, WA

53. Morgan's of Washington dba Double Diamond Fruit, Quincy, WA

54. Northern Fruit Company, Inc., Wenatchee, WA

55. Olympic Fruit Co., Moxee, WA

56. Oneonta Trading Corp., Wenatchee, WA

57. Orchard View Farms, Inc., The Dalles, OR

58. Pacific Coast Cherry Packers, LLC, Yakima, WA

59. Phillippi Fruit Company, Inc., Wenatchee, WA

60. Polehn Farm's Inc., The Dalles, OR

61. Price Cold Storage & Packing Co., Inc., Yakima, WA

62. Pride Packing Company, Wapato, WA

63. Quincy Fresh Fruit Co., Quincy, WA

64. Rainier Fruit Company, Selah, WA

65. Roche Fruit, Ltd., Yakima, WA

66. Sage Fruit Company, L.L.C., Yakima, WA

67. Smith & Nelson, Inc., Tonasket, WA

68. Stadelman Fruit, L.L.C., Milton-Freewater, OR, and Zillah, WA

69. Stemilt Growers, LLC, Wenatchee, WA

70. Strand Apples, Inc., Cowiche, WA

71. Symms Fruit Ranch, Inc., Caldwell, ID

72. The Dalles Fruit Company, LLC Underwood Fruit & Warehouse Co., Dallesport, WA

73. Valicoff Fruit Co., Inc., Wapato, WA

74. Valley Fruit III L.L.C., Wapato, WA

75. Washington Cherry Growers, Peshastin, WA

76. Washington Fruit & Produce Co., Yakima, WA

77. Western Sweet Cherry Group, LLC, Yakima, WA

78. Whitby Farms, Inc. dba: Farm Boy Fruit Snacks LLC, Mesa, WA

79. Yakima Fresh, Yakima, WA

80. Yakima Fruit & Cold Storage Co., Yakima, WA

81. Zirkle Fruit Company, Selah, WA

Dated: October 13, 2015.
Joseph Flynn,
Director, Office of Trade and Economic Analysis, International Trade Administration.

[FR Doc. 2015-26419 Filed 10-16-15; 8:45 am]

BILLING CODE 3510-DR-P